DEPARTMENT OF LABOR

Employment and Training Administration

[TA-W-57,223]

Ward Products, LLC Amsterdam, NY; Notice of Termination of Investigation

Pursuant to Section 221 of the Trade Act of 1974, as amended, an investigation was initiated on May 19, 2005 in response to a petition filed by a District Representative of the International Brotherhood of Electrical Workers on behalf of workers at Ward Products, LLC, Amsterdam, New York.

The petitioner has requested that the petition be withdrawn. Consequently, the investigation has been terminated.

Signed at Washington, DC this 13th day of June, 2005.
Elliott S. Kushner,
Certifying Officer, Division of Trade Adjustment Assistance.

[FR Doc. E5-3362 Filed 6-27-05; 8:45 am]

BILLING CODE 4510-30-P